ENVIRONMENTAL PROTECTION AGENCY

[ER-FRL-6667-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050054, ERP No. D-NOA-L39062-WA, Washington State Forest Habitat Conservation Plan, Propose Issuance of Multiple Species Incidental Take Permit or 9d)Rules, NPDES Permit, U.S. Army COE section 10 and 404 Permits, WA

Summary: EPA's expressed concerns regarding the pesticide application procedures and small landowner exemptions that could have potential effects on water quality. Rating EC2.

EIS No. 20050190, ERP No. D-FHW-F59004-MI, Detroit Intermodal Freight Terminal (DIFT) Project, Proposes Improvement to Intermodal Freight Terminals in Wayne and Oakland Counties, MI

Summary: EPA has environmental objections to the proposed project regarding impacts to air quality, specifically involving particulate matter 2.5 microns or less (PM2.5), as well as environmental justice issues. EPA requests that the Final EIS more fully describe localized impacts of PM2.5 and commit to air quality mitigation strategies. Rating EO2.

Final EISs

EIS No. 20050296, ERP No. F-TVA-E05100-TN, 500-kV Transmission Lin in Middle Tennessee Construction and Operation, Cumberland Fossil Plant to either the Montgomery 500-kV Substation, Montgomery County, or the Davidson 500-kV Substation, Davidson County, Stewart, Houston, Montgomery, Dickerson, Cheatham and Davidson Counties, TN

Summary: EPA is concerned that the preferred alignments would impact forested wetlands and that overall more wetlands would be impacted than by other presented alignments.

EIS No. 20050304, ERP No. F-AFS-L65467-ID, Red Pines Project, Implementation of Fuel Reduction Activities and Watershed Activities Improvement, Nez Perce National Forest, Red River Ranger District, Idaho County, ID

Summary: EPA continues to have concerns about the potential for adverse impacts to water quality and listed salmonoids from sediment loading.

EIS No. 20050333, ERP No. F-FRC-J03018-00, Piceance Basin Expansion Project, Construction and Operation of a New Interstate Natural Gas Pipeline System, Wamsutter Compressor Station to Interconnections Greasewood Compressor Station, Rio Blanco County, CO and Sweetwater County, WY

Summary: No formal comment letter was sent to the preparing agency.

Dated: September 9, 2005.
Ken Mittelholtz,
Environmental Protection Specialist, Office of Federal Activities.

[FR Doc. 05-17925 Filed 9-8-05; 8:45 am]

BILLING CODE 6560-50-P